DEPARTMENT OF ENERGY

Federal Energy Regulatory Commission

Combined Notice of Filings #1

January 23, 2006.

Take notice that the Commission received the following electric rate filings.

Docket Numbers: ER04-608-006; EL05-127-002.

Applicants: PJM Interconnection, LLC.

Description: PJM Interconnection, LLC resubmits 2nd Revised Sheet No. 33 et al to the 10/24/05 filing of several settlement documents including a settlement agreement in compliance with FERC's 12/16/05 Order & Order 614.

Filed Date: 01/13/2006.

Accession Number: 20060119-0105.

Comment Date: 5 p.m. eastern time on Friday, February 03, 2006.

Docket Numbers: ER05-26-002.

Applicants: Mirant Kendall LLC.

Description: Mirant Kendall, LLC & Mirant Americas Energy Marketing, LP submits Original Sheet 1 et al to FERC Electric Tariff, Original Volume No. 1 pursuant to Order 614.

Filed Date: 01/13/2006.

Accession Number: 20060123-0031.

Comment Date: 5 p.m. eastern time on Friday, February 3, 2006.

Docket Numbers: ER05-977-002.

Applicants: Union Power Partners, LP.

Description: Union Power Partners, LP submits its revised rate schedule for Reactive Supply and Voltage Control from Generation Sources Service, FERC Rate Schedule No. 2.

Filed Date: 01/13/2006.

Accession Number: 20060119-0023.

Comment Date: 5 p.m. eastern time on Friday, February 3, 2006.

Docket Numbers: ER06-212-001.

Applicants: Wisconsin Electric Power Company.

Description: Wisconsin Electric Power Co submits its revised Power Sales Agreement with the City of Crystal Falls, Michigan, in compliance with FERC's 12/20/05 Order.

Filed Date: 01/13/2006.

Accession Number: 20060123-0033.

Comment Date: 5 p.m. eastern time on Friday, February 3, 2006.

Docket Numbers: ER06-427-000.

Applicants: Mystic Development, LLC.

Description: Mystic Development, LLC submits the signature page for Alan C Heintz's affidavit to their 12/29/05 filing.

Filed Date: 01/05/2006.

Accession Number: 20060106-0153.

Comment Date: 5 p.m. eastern time on Thursday, January 31, 2006.

Docket Numbers: ER06-446-001.

Applicants: Connecticut Light & Power Company.

Description: Northeast Utilities Service Co on behalf of its affiliates the Connecticut Light & Power Co. amends their January 3 filing to submit a non-public, non-redacted version of their termination agreement.

Filed Date: 01/13/2006.

Accession Number: 20060119-0103.

Comment Date: 5 p.m. eastern time on Friday, February 3, 2006.

Docket Numbers: ER06-465-000.

Applicants: Alcoa Power Generating Inc.

Description: Alcoa Power Generating Inc submits the required ministerial changes to the Large Generator Interconnection Agreement sections of its Long Sault Division OATT.

Filed Date: 01/10/2006.

Accession Number: 20060112-0325.

Comment Date: 5 p.m. eastern time on Tuesday, January 31, 2006.

Docket Numbers: ER06-474-000.

Applicants: BIV Generation Company, LLC.

Description: BIV Generation Co, LLC submits certain revised sheets to its market-based rate tariff FERC Electric Tariff Volume No. 1.

Filed Date: 01/11/2006.

Accession Number: 20060119-0206.

Comment Date: 5 p.m. eastern time on Wednesday, February 1, 2006.

Docket Numbers: ER06-481-000.

Applicants: Southern California Edison Company.

Description: Southern California Edison Co submits First Revised Sheet No. 2 et al to the Globe Street Wholesale Distribution Load Interconnection Facilities Agreement with the City of Moreno Valley.

Filed Date: 01/13/2006.

Accession Number: 20060119-0022.

Comment Date: 5 p.m. eastern time on Friday, February 3, 2006.

Docket Numbers: ER06-482-000.

Applicants: PJM Interconnection, LLC.

Description: PJM Interconnection, LLC's executed Interconnection Service Agreement with Exelon Generating Co, LLC and PEPCO Energy Company.

Filed Date: 01/13/2006.

Accession Number: 20060119-0021.

Comment Date: 5 p.m. eastern time on Friday, February 3, 2006.

Docket Numbers: ER06-483-000.

Applicants: Wisconsin Electric Power Company.

Description: Wisconsin Electric Power Co submits a proposed amendment to the Power Service Agreement w/Alger Delta Cooperative Electric Association.

Filed Date: 01/13/2006.

Accession Number: 20060119-0018.

Comment Date: 5 p.m. eastern time on Friday, February 3, 2006.

Docket Numbers: ER06-484-000.

Applicants: Idaho Power Company.

Description: Idaho Power Co submits Second Revised Sheet No. 238 et al to FERC Electric Tariff, First Revised Volume No. 5 in compliance with the Commission's Order 661-A.

Filed Date: 01/13/2006.

Accession Number: 20060119-0017.

Comment Date: 5 p.m. eastern time on Friday, February 3, 2006.

Docket Numbers: ER06-485-000.

Applicants: Wisconsin Electric Power Company.

Description: Wisconsin Electric Power Co submits a proposed amendment to the Power Service Agreement with the Ontonagon County Electrification Association.

Filed Date: 01/13/2006.

Accession Number: 20060119-0020.

Comment Date: 5 p.m. eastern time on Friday, February 3, 2006.

Docket Numbers: ER06-486-000.

Applicants: Central Illinois Public Service Company.

Description: Central Illinois Public Service Co submits revisions to the Facility Use Agreement with Illinois Power Co dated 5/2/05.

Filed Date: 01/13/2006.

Accession Number: 20060119-0016.

Comment Date: 5 p.m. eastern time on Friday, February 3, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-1123 Filed 1-27-06; 8:45 am]

BILLING CODE 6717-01-P